DEPARTMENT OF COMMERCE

United States Patent and Trademark Office

National Summer Teacher Institute

ACTION: Revision of a currently approved collection.

SUMMARY: The United States Patent and Trademark Office (USPTO), as required by the Paperwork Reduction Act of 1995, invites comments on a proposed extension of an existing information collection.

DATES: Written comments must be submitted on or before March 12, 2018.

ADDRESSES: You may submit comments by any of the following methods:

• Email: InformationCollection@uspto.gov. Include “0651-0077 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Joyce Ward, Under Secretary of Commerce for Intellectual Property, United States Patent and Trademark Office, P.O. Box 1450, Alexandria, VA 22313-1450; by telephone at 571-272-8424; or by email to Joyce.Ward@uspto.gov with “0651-0077 comment” in the subject line. Additional information about this collection is also available at http://www.reginfo.gov under “Information Collection Review.”

SUPPLEMENTARY INFORMATION:

I. Abstract

Since 2014, the USPTO has sponsored a program entitled “National Summer Teacher Institute”. This program accepts applicants for a summer teaching workshop. Interested individuals are required to submit an application requesting to participate in the program. In the application, applicants are required to certify that they are educators with at least 3 years' experience; identify STEM-related fields they have taught in the last year; identify STEM related fields they plan to teach in the upcoming year; and acknowledge their commitment to incorporate the learnings from the Summer Teacher Institute into their curriculum, where applicable, and cooperate with sharing lessons and outcomes with teachers and PTO.

The USPTO seeks committed educators in science fields who will learn about innovative strategies to help increase student learning and achievement in these fields together with elements of invention and IP. Outside scientists and inventors will among the presenters and workshop leads. Educators will also participate in field trips (i.e. to NASA) and have opportunities for networking with other educators and invited experts. The USPTO may various host webinars in conjunction with the Summer Institute. USPTO plans to conduct surveys of both the Institute and the webinars in order to gain useful feedback from program participants.

II. Method of Collection

Applications and corresponding surveys will be submitted electronically through the www.uspto.gov/education website.

III. Data

OMB Number: 0651-0077.

Form Numbers: NSTI 1-3.

Type of Review: Revision of a Previously Existing Information Collection.

Affected Public: Businesses or other for-profits; not-for-profit institutions.

Estimated Number of Respondents: 900 responses per year.

Estimated Time per Response: The USPTO estimates that it will take the public approximately 5 (0.08 hours) to 30 minutes (0.5 hours) to submit the information in this collection, including the time to gather the necessary information, prepare the appropriate form or document, and submit the completed request to the USPTO.

Estimated Total Annual Respondent Burden Hours: 291.67 hours.

Estimated Total Annual Respondent (Hourly) Cost Burden: $8,613.02. The USPTO expects that secondary school teachers will complete the applications and surveys. The professional hourly rate for secondary school teachers is $29.53, based upon the May 2016 Occupational Labor Statistics Report for secondary school teachers (25-2031). Using this hourly rate, the USPTO estimates that the total respondent cost burden for this collection is $8,613.02 per year.

Item number | Estimated time for response (hours) | Estimated annual responses | Estimated annual burden hours | Rate ($/hr) | Total cost
| (a) | (b) | (a) × (b)/60 = (c) | (d) | (c) × (d) = (e)
1. Summer Teacher Institute Application (NSTI 1) | 0.50 | 500 | 250 | $29.53 | $7,382.50
2. Summer Teacher Institute Participant Survey (NSTI 2) | 0.17 | 100 | 16.67 | 29.53 | 492.27
3. Summer Teacher Institute Webinar Survey (NSTI 3) | 0.08 | 300 | 25 | 29.53 | 738.25
Total |  | 900 | 291.67 |  | $8,613.02

Estimated Total Annual (Non-hour) Respondent Cost Burden: $0. There are no capital start-up, maintenance, postage, or recordkeeping costs. All applications and surveys will be received electronically.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO, United States Patent and Trademark Office.

[FR Doc. 2018-00265 Filed 1-9-18; 8:45 am]

BILLING CODE 3510-16-P